UNITED STATES INSTITUTE OF PEACE

Notice of Meeting

Agency: United States Institute of Peace

Date/Time: Friday, July 25, 2014 (9:30 a.m.-4:45 p.m.)

Location: 2301 Constitution Avenue, NW., Washington, DC 20037

Status: Open Session—Portions may be closed pursuant to Subsection (c) of Section 552(b) of Title 5, United States Code, as provided in subsection 1706(h)(3) of the United States Institute of Peace Act, Public Law 98-525.

Agenda: July 25, 2014 Board Meeting; Approval of Minutes of the One Hundred Fifty-first Meeting (April 25, 2014) of the Board of Directors; Chairman's Report; Vice Chairman's Report; Acting President's Report; Middle East & Africa Overview; Afghanistan Election briefing; PeaceTech; 30th Anniversary of USIP; Other Organizational Topics.

Contact: Denson Staples, Assistant to the Board Liaison, Email: staples@usip.org

Dated: June 23, 2014.
Michael B. Graham,
Senior Vice President for Management and Chief Financial Officer, United States Institute of Peace.

[FR Doc. 2014-15208 Filed 7-1-14; 8:45 am]

BILLING CODE 6820-AR-M